DEPARTMENT OF ENERGY

Federal Energy Regulatory Commission

[Docket No. CP04-365-002]

Dominion Transmission, Inc.; Notice of Proposed Changes in FERC Gas Tariff

March 24, 2006.

Take notice that on March 22, 2006, Dominion Transmission, Inc. (DTI) tendered for filing as part of its FERC Gas Tariff, Third Revised Volume No. 1, the following tariff sheets, to become effective the later of April 1, 2006, or the commencement date of incremental storage services offered as part of its Northeast Storage Project:

Fifth Revised Sheet No. 36

First Revised Sheet No. 36A

Original Sheet No. 41

Sheet Nos. 42-99

The proposed changes would increase revenues from jurisdictional incremental storage service by approximately $2 million based on the 12-month period ending March 31, 2007, as adjusted.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 30, 2006.

Magalie R. Salas,
Secretary.

[FR Doc. E6-4655 Filed 3-29-06; 8:45 am]

BILLING CODE 6717-01-P